DEPARTMENT OF ENERGY

Federal Energy Regulatory Commission

Combined Notice of Filings #2

Take notice that the Commission received the following electric rate filings:

Docket Numbers: ER11-4021-001; ER11-4022-001; ER11-4023-001.

Applicants: ISO New England Inc.

Description: Compliance Filing of Northeast Utilities Service Company and ISO-NE.

Filed Date: 10/21/2011.

Accession Number: 20111021-5218.

Comment Date: 5 p.m. Eastern Time on Monday, November 14, 2011.

Docket Numbers: ER11-4116-001.

Applicants: Michigan Electric Transmission Company, LLC.

Description: Michigan Electric Transmission Company, LLC submits tariff filing per 35: Compliance Filing to be effective 9/26/2011.

Filed Date: 10/24/2011.

Accession Number: 20111024-5037.

Comment Date: 5 p.m. Eastern Time on Monday, November 14, 2011.

Docket Numbers: ER11-4117-001.

Applicants: Michigan Electric Transmission Company, LLC.

Description: Michigan Electric Transmission Company, LLC submits tariff filing per 35: Compliance Filing to be effective 9/26/2011.

Filed Date: 10/24/2011.

Accession Number: 20111024-5038.

Comment Date: 5 p.m. Eastern Time on Monday, November 14, 2011.

Docket Numbers: ER11-4145-000.

Applicants: ITC Midwest LLC.

Description: ITC Midwest LLC submits tariff filing per 35.19a(b): Filing of a Refund Report to be effective N/A.

Filed Date: 10/24/2011.

Accession Number: 20111024-5051.

Comment Date: 5 p.m. Eastern Time on Monday, November 14, 2011.

Docket Numbers: ER11-4146-000.

Applicants: ITC Midwest LLC.

Description: ITC Midwest LLC submits tariff filing per 35.19a(b): Filing of a Refund Report to be effective N/A.

Filed Date: 10/21/2011.

Accession Number: 20111021-5041.

Comment Date: 5 p.m. Eastern Time on Monday, November 14, 2011.

Docket Numbers: ER11-4152-000.

Applicants: ITC Midwest LLC.

Description: ITC Midwest LLC submits tariff filing per 35.19a(b): Filing of a Refund Report to be effective N/A.

Filed Date: 10/21/2011.

Accession Number: 20111021-5046.

Comment Date: 5 p.m. Eastern Time on Monday, November 14, 2011.

Docket Numbers: ER11-4153-000.

Applicants: ITC Midwest LLC.

Description: ITC Midwest LLC submits tariff filing per 35.19a(b): Filing of a Refund Report to be effective N/A.

Filed Date: 10/24/2011.

Accession Number: 20111024-5052.

Comment Date: 5 p.m. Eastern Time on Monday, November 14, 2011.

Docket Numbers: ER11-4159-000.

Applicants: ITC Midwest LLC.

Description: ITC Midwest LLC submits tariff filing per 35.19a(b): Filing of a Refund Report to be effective N/A.

Filed Date: 10/24/2011.

Accession Number: 20111024-5053.

Comment Date: 5 p.m. Eastern Time on Monday, November 14, 2011.

Docket Numbers: ER11-4196-000.

Applicants: Michigan Electric Transmission Company, Midwest Independent Transmission System Operator, Inc.

Description: Michigan Electric Transmission Company, LLC submits tariff filing per 35.19a(b): METC-Gratiot Refund Report to be effective N/A.

Filed Date: 10/24/2011.

Accession Number: 20111024-5032.

Comment Date: 5 p.m. Eastern Time on Monday, November 14, 2011.

Docket Numbers: ER12-162-001.

Applicants: Bishop Hill Energy II LLC.

Description: Bishop Hill Energy II LLC submits tariff filing per 35.17(b): Supplement to Market-Based Rate Application to be effective 12/21/2011.

Filed Date: 10/21/2011.

Accession Number: 20111021-5179.

Comment Date: 5 p.m. Eastern Time on Monday, November 14, 2011.

Docket Numbers: ER12-170-000.

Applicants: San Diego Gas & Electric Company.

Description: San Diego Gas & Electric Company submits tariff filing per 35.13(a)(2)(iii): SDGE CSolar LGIA to be effective 10/21/2011.

Filed Date: 10/24/2011.

Accession Number: 20111024-5000.

Comment Date: 5 p.m. Eastern Time on Monday, November 14, 2011.

Docket Numbers: ER12-171-000.

Applicants: PJM Interconnection, LLC.

Description: PJM Interconnection, LLC submits tariff filing per 35.13(a)(2)(iii): Queue No. X1-070; Original Service Agreement No. 3080 to be effective 9/22/2011.

Filed Date: 10/24/2011.

Accession Number: 20111024-5033.

Comment Date: 5 p.m. Eastern Time on Monday, November 14, 2011.

Docket Numbers: ER12-172-000.

Applicants: Michigan Electric Transmission Company, Midwest Independent Transmission System Operator, Inc.

Description: Michigan Electric Transmission Company, LLC submits tariff filing per 35.13(a)(2)(iii): Cancellation of METC-Gratiot E&P to be effective 10/25/2011.

Filed Date: 10/24/2011.

Accession Number: 20111024-5034.

Comment Date: 5 p.m. Eastern Time on Monday, November 14, 2011.

Docket Numbers: ER12-173-000.

Applicants: Fairless Energy, LLC.

Description: Fairless Energy, LLC submits tariff filing per 35: Compliance Filing—MBR Tariff Order of Affiliate Restrictions to be effective 10/24/2011.

Filed Date: 10/24/2011.

Accession Number: 20111024-5035.

Comment Date: 5 p.m. Eastern Time on Monday, November 14, 2011.

Docket Numbers: ER12-174-000.

Applicants: Citizens Choice Energy, LLC.

Description: Citizens Choice Energy, LLC submits tariff filing per 35.1: Market-Based Rate Tariff Baseline to be effective 10/24/2011.

Filed Date: 10/24/2011.

Accession Number: 20111024-5047.

Comment Date: 5 p.m. Eastern Time on Monday, November 14, 2011.

Docket Numbers: ER12-175-000.

Applicants: PJM Interconnection, LLC.

Description: PJM Interconnection, LLC submits tariff filing per 35.13(a)(2)(iii): Queue No. X1-072; Original Service Agreement No. 3081 to be effective 9/22/2011.

Filed Date: 10/24/2011.

Accession Number: 20111024-5048.

Comment Date: 5 p.m. Eastern Time on Monday, November 14, 2011.

Docket Numbers: ER12-176-000.

Applicants: PJM Interconnection, LLC.

Description: PJM Interconnection, LLC submits tariff filing per 35.13(a)(2)(iii): Queue No. W2-082; Original Service Agreement No. 3082 to be effective 9/22/2011.

Filed Date: 10/24/2011.

Accession Number: 20111024-5058.

Comment Date: 5 p.m. Eastern Time on Monday, November 14, 2011.

Docket Numbers: ER12-177-000.

Applicants: Geneva Roth Holding, LLC.

Description: Geneva Roth Holdings LLC submits notice of cancellation effective 11/1/11 under ER12-177.

Filed Date: 10/21/2011.

Accession Number: 20111024-0201.

Comment Date: 5 p.m. Eastern Time on Monday, November 14, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2011.
Nathaniel J. Davis, Sr.,
Deputy Secretary.

[FR Doc. 2011-28191 Filed 10-31-11; 8:45 am]

BILLING CODE 6717-01-P